DEPARTMENT OF THE INTERIOR

Bureau of Land Management

[ES-930-1310-FI; ARES 51032, et al.]

Notice of Proposed Reinstatement of Terminated Oil and Gas Leases

AGENCY: Bureau of Land Management, Interior.

ACTION: Notice of Proposed Reinstatement of Terminated Oil and Gas Leases.

SUMMARY: Under the provisions of Section 371(a) of the Energy Policy Act of 2005, the Bureau of Land Management (BLM) received a petition for reinstatement of the following oil and gas leases located in Logan County, Arkansas: ARES 51032, ARES 51036, ARES 51043, ARES 51044, ARES 51054, ARES 51113, ARES 51114, ARES 51115, ARES 51116, ARES 51117, ARES 51119, ARES 51120, ARES 51121, ARES 51124, ARES 51126, ARES 51127, ARES 51128 and ARES 51132. The petition was filed on time and was accompanied by all rentals due since the date the leases terminated under the law.

FOR FURTHER INFORMATION CONTACT: Gina Goodwin, Lead Land Law Examiner, at 703-440-1534, or Bureau of Land Management-Eastern States, 7450 Boston Boulevard, Springfield, Virginia.

SUPPLEMENTARY INFORMATION: The lessee has agreed to the amended lease terms for rentals and royalties at rates of $5.00 per acre, or fraction thereof, per year and 16⅔percent respectively. The lessee has paid the required administrative fee for each lease and publication fee to reimburse the Department for the cost of this Federal Register notice. The lessee has met all the requirements for reinstatement of the leases as set out in Section 31(d) and (e) of the Mineral Leasing Act of 1920, as amended (30 U.S.C. 188), and the BLM is proposing to reinstate the leases listed above, effective August 1, 2002, under the original terms and conditions of the leases and the increased rental and royalty rates cited above. The BLM has not issued any valid leases affecting the lands.

Dated: May 26, 2006.
Michael D. Nedd,
State Director, Eastern States.

[FR Doc. E6-8963 Filed 6-8-06; 8:45 am]

BILLING CODE 4310-GJ-P